FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. A copy of each agreement is available through the Commission's Web site (www.fmc.gov) or by contacting the Office of Agreements at (202) 523-5793 or tradeanalysis@fmc.gov.

Agreement No.: 012034-007.

Title: Hamburg Sud/Maersk Line Vessel Sharing Agreement.

Parties: Hamburg-Sud and Maersk Line A/S.

Filing Party: Wayne Rohde, Esq.; Cozen O'Connor; 1200 Nineteenth Street NW., Washington, DC 20036.

Synopsis: The amendment adds Peru to the geographic scope of the Agreement. The parties request expedited review.

Agreement No.: 012067-022.

Title: U.S. Supplemental Agreement to HLC Agreement.

Parties: BBC Chartering Carriers GmbH & Co. KG and BBC Chartering & Logistic GmbH & Co. KG, as a single member; Hanssy Shipping Pte. Ltd.; and Industrial Maritime Carriers, L.L.C.

Filing Party: Wade S. Hooker, Esq.; 211 Central Park W, New York, NY 10024.

Synopsis: The amendment deletes Austral Asia Line Pte. Ltd. as a party to the ancillary HLC Agreement.

Agreement No.: 201234.

Title: Agreement by Ocean Common Carriers to Participate on the Exchange Board.

Parties: CMA CGM S.A.; COSCO Shipping Co., Ltd., Hapag-Lloyd AG; and Mitsui O.S.K. Lines, Ltd.

Filing Party: Ashley W. Craig, Esq.; Venable LLP; 600 Massachusetts Ave. NW., Washington, DC 20001.

Synopsis: The Agreement authorizes CMA CGM SA, Hapag-Lloyd AG, Mitsui O.S.K. Lines, Ltd., and COSCO Shipping Co., Ltd. to serve on the board of New York Shipping Exchange Inc. (NYSHEX). The parties request expedited review.

Agreement No.: 201235.

Title: Agreement by Ocean Common Carriers to Use Standard Service Contract Terms.

Parties: CMA CGM S.A.; COSCO Shipping Co., Ltd., Hapag-Lloyd AG; and Mitsui O.S.K. Lines, Ltd.

Filing Party: Ashley W. Craig, Esq.; Venable LLP; 600 Massachusetts Ave. NW., Washington, DC 20001.

Synopsis: The Agreement authorizes the Parties to agree upon the use of standard terms to be included in the NYSHEX Forward Contract template, which will form the basis for service contracts entered into via the NYSHEX platform. The parties request expedited review.

By Order of the Federal Maritime Commission.
Dated: October 19, 2017.
Rachel E. Dickon,
Assistant Secretary.

[FR Doc. 2017-23097 Filed 10-24-17; 8:45 am]

BILLING CODE 6731-AA-P